DEPARTMENT OF TRANSPORTATION

Federal Railroad Administration

49 CFR Parts 209, 213, 214, 215, 217, 218, 219, 220, 221, 222, 223, 224, 225, 227, 228, 229, 230, 231, 232, 233, 234, 235, 236, 238, 239, 240, and 241

[Docket No. FRA-2006-25274, Notice No. 3]

RIN 2130-ZA00

Revised Proposal for Revisions to the Schedules of Civil Penalties for a Violation of a Federal Railroad Safety Law or Federal Railroad Administration Safety Regulation or Order; Reopening and Extending the Comment Period

AGENCY: Federal Railroad Administration (FRA), Department of Transportation (DOT).

ACTION: Reopening and extending the comment period.

SUMMARY: Due to comments received from the Association of American Railroads (AAR) during the initial comment period, FRA is reopening the comment period for its proposal published on September 21, 2010. The proposal, if adopted, would amend, line by line, FRA's schedules of civil penalties issued as appendices to FRA's rail safety regulations, as well as other guidance. AAR stated in its comments on the proposal that FRA did not give the railroad industry adequate time to review all the penalties listed in the proposal to determine if they match the severity-scale criteria, which are also listed in the proposal. Therefore, FRA is reopening and extending the comment period in order to allow AAR more time to review the penalties in the severity scale and to identify and comment more fully on which individual penalties do not in its opinion satisfy the severity-scale criteria. FRA also seeks further comments from other interested parties that were unable to comment during the initial comment period. The comment period is reopened until February 1, 2011.

DATES: Written comments must be received by February 1, 2011. Comments received after that date will be considered to the extent possible without incurring additional delay or expense.

ADDRESSES: Comments: Comments related to this Docket No. FRA 2006-25274, Notice No. 3, may be submitted by any of the following methods:

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m. Monday through Friday, except Federal holidays.

• Federal eRulemaking Portal: Go to http://www.regulations.gov. Follow the online instructions for submitting comments.

Instructions: All submissions must include the agency name and docket number or Regulatory Identification Number (RIN) for this rulemaking. Note that all comments received will be posted without change to http://www.regulations.gov including any personal information provided.

Docket: For access to the docket to read background documents or comments received go to http://www.regulations.gov at any time or to U.S. Department of Transportation, Docket Operations, M-30, West Building Ground Floor, Room W12-140, 1200 New Jersey Avenue, SE., Washington, DC, between 9 a.m. and 5 p.m., Monday through Friday, except Federal holidays.

FOR FURTHER INFORMATION CONTACT: Ron Hynes, Director, Office of Safety Compliance and Assurance, Office of Railroad Safety, FRA, 1200 New Jersey Avenue, SE., Washington, DC 20590 (telephone 202-493-6404), ronald.hynes@dot.gov; or Brian Roberts, Trial Attorney, Office of Chief Counsel, FRA, 1200 New Jersey Avenue, SE., Mail Stop 10, Washington, DC 20590 (telephone 202-493-6052), brian.roberts@dot.gov.

SUPPLEMENTARY INFORMATION: FRA's proposal to amend, line by line, FRA's schedules of civil penalties as well as other guidance was published on September 21, 2010 (75 FR 57598). The initial comment period closed on October 21, 2010. During this 30-day comment period, FRA received comments from both AAR and The American Short Line and Regional Railroad Association. In its comments, AAR provided examples of penalties in the proposal that it believed did not match the severity-scale criteria. However, AAR also stated that FRA did not give it adequate time to review all the penalties in the proposal and determine whether they matched the severity-scale criteria. Therefore, FRA is reopening the comment period to allow AAR an opportunity to comment on these perceived inconsistencies more fully. FRA will address all other comments made during the initial and additional comment period in the final statement of agency policy.

Privacy Act: FRA wishes to inform all potential commenters that anyone is able to search the electronic form of all comments received into any agency docket by the name of the individual submitting the comment (or signing the comment, if submitted on behalf of an association, business, labor union, etc.). You may review DOT's complete Privacy Act Statement in the edition of the Federal Register published on April 11, 2000 (65 FR 19477-78), or you may visit http://regulations.gov/search/footer/privacyanduse.jsp.

Issued in Washington, DC, on November 29, 2010.
Karen J. Rae,
Deputy Administrator.

[FR Doc. 2010-30366 Filed 12-2-10; 8:45 am]

BILLING CODE 4910-06-P